DEPARTMENT OF LABOR

Occupational Safety and Health Administration

[Docket No. OSHA-2021-0005]

LabTest Certification Inc.: Grant of Recognition

AGENCY: Occupational Safety and Health Administration (OSHA), Labor.

ACTION: Notice.

SUMMARY: In this notice, OSHA announces the final decision to grant recognition to LabTest Certification, Inc. (LCI), as a Nationally Recognized Testing Laboratory (NRTL).

DATES: Recognition as a NRTL becomes effective on November 2, 2021.

FOR FURTHER INFORMATION CONTACT: Information regarding this notice is available from the following sources:

Press inquiries: Contact Mr. Frank Meilinger, Director, OSHA Office of Communications, U.S. Department of Labor, telephone: (202) 693-1999; email: meilinger.francis2@dol.gov.

General and technical information: Contact Mr. Kevin Robinson, Director, Office of Technical Programs and Coordination Activities, Directorate of Technical Support and Emergency Management, Occupational Safety and Health Administration, U.S. Department of Labor, telephone: (202) 693-2110; email: robinson.kevin@dol.gov.

SUPPLEMENTARY INFORMATION:

I. Background

Many of OSHA's workplace standards require that a NRTL test and certify certain types of equipment as safe for use in the workplace. NRTLs are independent laboratories that meet OSHA's requirements for performing safety testing and certification of products used in the workplace. To obtain and retain OSHA recognition, the NRTLs must meet the requirements in the NRTL Program regulations at 29 CFR 1910.7. More specifically, to be recognized by OSHA, an organization must: (1) Have the appropriate capability to test, evaluate, and approve products to assure their safe use in the workplace; (2) be completely independent of employers subject to the tested equipment requirements, and manufacturers and vendors of products for which OSHA requires certification; (3) have internal programs that ensure proper control of the testing and certification process; and (4) have effective reporting and complaint handling procedures. Recognition is an acknowledgement by OSHA that the NRTL has the capabilities to perform independent safety testing and certification of the specific products covered within the NRTL's scope of recognition and is not a delegation or grant of government authority. Recognition of a NRTL by OSHA also allows employers to use products certified by that NRTL to meet those OSHA standards that require product testing and certification.

The agency processes applications for initial recognition following requirements in Appendix A of 29 CFR 1910.7. This appendix requires OSHA to publish two notices in the Federal Register in processing an application. In the first notice, OSHA announces the application, provides its preliminary findings, and solicits comments on its preliminary findings. In the second notice, the agency provides its final decision on the application and sets forth the NRTL's scope of recognition.

II. Notice of Final Decision

OSHA hereby gives notice of the agency's decision to grant recognition to LabTest Certification, Inc., (LCI) as a NRTL. According to public information (see https://labtestcert.com/about-labtest/) LCI states that it is an internationally accredited testing laboratory. In its application, LCI lists the current address of its headquarters as: LabTest Certification, Inc., 205—8291 92 Street, Delta, BC Canada V4G 0A4. OSHA has determined preliminarily that LCI has the capability to perform as a NRTL as outlined in 29 CFR 1910.7.

Each NRTL's scope of recognition has two elements: (1) The type(s) of products the NRTL may test, with each type specified by its applicable test standard; and (2) the recognized site(s) that have the technical capability to perform the product-testing and product-certification activities for the applicable test standards within the NRTL's scope of recognition. LCI applied on January 29, 2016, for one recognized site (OSHA-2021-0005-0001). This application was amended on June 10, 2021, to remove three of the eight standards requested in the original application. LCI's original application also requested that supplemental programs be included in their recognition. However, on October 1, 2019, OSHA published an update to the NRTL Program Policies, Procedures and Guidelines Directive, CPL 01-00-004, which eliminated supplemental programs from the NRTL Program. Therefore, OSHA does not grant recognition to NRTL applicants for supplemental programs. OSHA published the preliminary notice announcing LCI's application for recognition in the Federal Register on August 16, 2021 (86 FR 45762). The agency requested comments by September 15, 2021, but it received no comments in response to this notice. OSHA is now proceeding with this final notice to grant recognition to LCI as a NRTL.

To obtain or review copies of all public documents pertaining to LCI's application, go to www.regulations.gov or contact the Docket Office at (202) 693-2350 (TTY (877) 889-5627). Docket No. OSHA-2021-0005 contains all materials in the record concerning LCI's recognition.

III. Final Decision and Order

OSHA staff performed a detailed analysis of LCI's application packet and reviewed other pertinent information. OSHA staff also performed comprehensive on-site assessments of LCI's testing facilities, at LCI, Delta BC on December 11-12, 2018. Based on the review of this evidence, OSHA finds that LCI meets the requirements of 29 CFR 1910.7 for recognition as a NRTL, subject to the limitations and conditions listed below. OSHA, therefore is proceeding with this final notice to grant recognition to LCI as a NRTL. The following sections set forth the scope of recognition included in LCI's grant of recognition.

A. Standards Requested for Recognition

OSHA limits LCI's scope of recognition to testing and certification of products for demonstration of conformance to the test standards listed in Table 1 below.

Table 1—Appropriate Test Standards for Inclusion in LCI's NRTL Scope of Recognition
Test standard | Test standard title
UL 1598 | Luminaires.
UL 60079-0 | Explosive Atmospheres—Part 0: Equipment—General Requirements.
UL 60079-1 | Explosive Atmospheres—Part 1: Equipment Protection by Flameproof Enclosures “d”.
UL 60079-11 | Explosive Atmospheres—Part 11: Equipment Protection by Intrinsic Safety “i”.
UL 60079-15 | Explosive Atmospheres—Part 15: Equipment Protection by Type of Protection “n”.

B. Sites Requested for Recognition

OSHA limits LCI's scope of recognition to include one site: LabTest Certification, Inc., 205—8291 92 Street, Delta, BC Canada V4G 0A4. OSHA's recognition of these sites limits LCI to performing product testing and certifications only to the test standards for which the site has the proper capability and programs, and for the test standards in LCI's scope of recognition.

C. Conditions

In addition to those conditions already required by 29 CFR 1910.7, LCI also must abide by the following conditions of the recognition:

1. LCI must inform OSHA as soon as possible, in writing, of any change of ownership, facilities, or key personnel, and of any major change in the operations as a NRTL, and provide details of the change(s);

2. LCI must meet all the terms of the recognition and comply with all OSHA policies pertaining to this recognition; and

3. LCI must continue to meet the requirements for recognition, including all previously published conditions on LCI's scope of recognition, in all areas for which it has recognition.

Pursuant to the authority in 29 CFR 1910.7, OSHA hereby grants recognition to LCI as a NRTL, subject to these limitations and conditions specified above.

IV. Authority and Signature

James S. Frederick, Acting Assistant Secretary of Labor for Occupational Safety and Health, authorized the preparation of this notice. Accordingly, the agency is issuing this notice pursuant to 29 U.S.C. 657(g)(2), Secretary of Labor's Order No. 8-2020 (85 FR 58393, September 18, 2020) and 29 CFR 1910.7.

Signed at Washington, DC, on October 20, 2021.
James S. Frederick,
Acting Assistant Secretary of Labor for Occupational Safety and Health.

[FR Doc. 2021-23892 Filed 11-1-21; 8:45 am]

BILLING CODE 4510-26-P